ENVIRONMENTAL PROTECTION AGENCY

[ER-FRL-8996-3]

Environmental Impacts Statements; Notice of Availability

Responsible Agency: Office of Federal Activities, General Information (202) 564-1399 or http://www.epa.gov/compliance/nepa/.

Weekly receipt of Environmental Impact Statements

Filed 03/28/2011 Through 04/01/2011

Pursuant to 40 CFR 1506.9.

Notice

In accordance with Section 309(a) of the Clean Air Act, EPA is required to make its comments on EISs issued by other Federal agencies public. Historically, EPA met this mandate by publishing weekly notices of availability of EPA comments, which includes a brief summary of EPA's comment letters, in the Federal Register. Since February 2008, EPA has included its comment letters on EISs on its Web site at: http://www.epa.gov/compliance/nepa/eisdata.html. Including the entire EIS comment letters on the Web site satisfies the Section 309(a) requirement to make EPA's comments on EISs available to the public. Accordingly, on March 31, 2010, EPA discontinued the publication of the notice of availability of EPA comments in the Federal Register.

EIS No. 20110098, Draft EIS, USFS, WI, Phelps Vegetation and Transportation Management Project, Proposal to Implement Vegetation and Transportation Management Activities, Eagle River-Florence Ranger District, Vilas County, WI, Comment Period Ends: 05/24/2011, Contact: Christine Brunner 715-479-2827.

EIS No. 20110099, Final EIS, FHWA, DC, South Capitol Street Project, Replacement of the Fredrick Douglas Memorial Bridge, from Firth Sterling Avenue SE to Independence Avenue and the Suitland Parkway from Martin Luther King, Jr Avenue SE to South Capitol Street., Washington, District of Columbia, Review Period Ends: 05/12/2011, Contact: Michael Hicks 202-219-3513.

EIS No. 20110100, Draft EIS, BLM, 00, China Mountain Wind Project and Jarbidge Resource Management Plan Amendment, Construction and Operation of 170 Wind Turbines and Associates Facilities, Application for Right-Of-Way Grant, Twin Falls County, Idaho, and Elko County, Nevada, southwest of Rogerson, Idaho and west of Jackpot, Nevada, Comment Period Ends: 07/06/2011, Contact: Scott Barker 208-735-2072.

EIS No. 20110101, Final EIS, USFS, CO, Big Moose Vegetation Management Project, Implementation, Divide Ranger District, Rio National Forest, Hinsdale and Mineral Counties, CO, Review Period Ends: 05/09/2011, Contact: Kirby Self 719-657-3321.

EIS No. 20110102, Draft EIS, USFS, UT, Black Fork Salvage Project, Proposal to Treat Timer Harvest, Prescribe Fire, and Mechanical Thinning, Uinta-Wasatch-Cache National Forest, Summit County, UT, Comment Period Ends: 05/23/2011, Contact: Tim Gill 307-789-3194.

EIS No. 20110103, Draft EIS, BLM, OR, Celatom Mine Expansion Project, Proposal to Approve, or Approve with Condition, Authorized Mine Plan of Operation Permit, Harney and Malheur Counties, OR, Comment Period Ends: 05/23/2011, Contact: William Dragt 541-573-4473.

EIS No. 20110104, Final EIS, NRC, NJ, Generic—License Renewal of Nuclear Plants, Regarding Hope Creek Generating Station and Salem Nuclear Generating Station, Units 1 and 2, Supplement 45 to NUREG-1437, Lower Alloway Creek, Township, Salem County, NJ, Review Period Ends: 05/09/2011, Contact: Leslie Perkins 301-415-2375.

EIS No. 20110105, Final EIS, USFS, UT, Tropic to Hatch 138kV Transmission Line Project, Proposing Construction of a new 138 kV transmission Line that would replace some or all the existing 69 kV Transmission Line, Applications for Special-Use Permits and/or Right-of-Way Grants, Grand Staircase-Escalante National Monument Management Plan Amendment, Garfield County, UT, Review Period Ends: 05/09/2011, Contact: Susan Baughman 435-865-3703.

EIS No. 20110106, Draft EIS, BIA, NM, Pueblo of Jemez 70.277 Arce Fee-To- Trust Transfer and Casino Project, Implementation, Dona Ana County, NM, Comment Period Ends: 06/01/2011, Contact: Priscilla Wade 505-563-3417

EIS No. 20110107, Final EIS, FHWA, IL, Illinois 336 Corridor Project, (Federal Aid Primary Route 315), Proposed Macomb Bypass in McDonough County, to I-474 west of Peoria in Peoria County, Funding, McDonough, Fulton and Peoria Counties, IL, Review Period Ends: 05/09/2011, Contact: Matt Fuller 217-492-4625.

Amended Notices

EIS No. 20110041, Draft EIS, BLM, AZ, Northern Arizona Proposed Withdrawal Project, Proposed 20-Year Withdrawal of Approximately 1 Million Acres of Federal Mineral Estate, Coconino and Mohave Counties, AZ, Comment Period Ends: 05/04/2011, Contact: Chris Horyza 602-417-9446.

Revision to FR Notice Published 02/18/2011: Extending Comment Period from 04/04/2011 to 05/04/2011.

Dated: April 5, 2011.
Robert W. Hargrove,
Director, NEPA Compliance Division, Office of Federal Activities.

[FR Doc. 2011-8429 Filed 4-7-11; 8:45 am]

BILLING CODE 6560-50-P